DEPARTMENT OF COMMERCE

International Trade Administration

U.S. Healthcare Education Mission to New Delhi, Hyderabad, and Ahmedabad, India, January 27—February 1, 2014

AGENCY: International Trade Administration, Department of Commerce.

ACTION: Notice.

SUMMARY: The United States Department of Commerce, International Trade Administration

Mission Description

The United States Department of Commerce, International Trade Administration, U.S. & Foreign Commercial Service, is organizing a healthcare education trade mission to India (New Delhi, Hyderabad, and Ahmedabad) from January 27—February 1, 2014. This mission will include representatives of regionally accredited graduate programs and 4-year undergraduate programs. This mission will seek to connect United States education institutions in the field of healthcare to potential students, university/institution partners and hospitals and research labs/pharmaceutical companies in India. The mission will include one-on-one meetings with potential partners, embassy briefings, student interactions and networking opportunities in New Delhi, Hyderabad and Ahmedabad, three of the top cities for recruiting Indian students to the United States. These cities have been top of the list of the healthcare industry in India that includes education institutions, healthcare facilities and companies in the sectors of healthcare-related services, drugs, pharmaceuticals and research.

The mission will be open to regionally accredited United States education institutions at the four year undergraduate level and at the graduate level that wish to either attract students to the United States or meet with potential partners for collaboration in India. The mission will be an opportunity for participants to meet with policy makers, visit institutions imparting healthcare education and healthcare facilities, to get acquainted with the functioning of hospitals in India and the varied standards of healthcare delivery. The mission participants will have one-on-one meetings with medical colleges, dental colleges, pharmacy colleges, nursing colleges, hospitals, pharmaceutical companies and interactions with students pursuing various streams of healthcare education.

Commercial Setting

In the 2011/12 academic year, 100,270 students (including both graduate and undergraduate) from India were studying in the United States. India is the second leading place of origin for students coming to the United States. Students from India make up approximately 13.1% of the total foreign student population in the United States. Of the 100,270 students, 4.8% choose to study in the health professions fields, and 11.4% choose to study in the life sciences fields.

India is primarily a market for U.S. graduate institutions interested in attracting students. Though there is some interest in U.S. undergraduate studies and transfer admissions, limited scholarships and the increasing cost of education are major deterrents. However, with the increase of international schools in India, the interest in undergraduate study in the United States is expected to increase in the years to come. India also offers substantial opportunities for U.S. universities and other institutions of higher learning to establish schools, programs and curriculum in India. According to industry experts, the higher education sector in India, which is currently at US$ 8.38 billion, is expected to grow at a compound annual growth rate of 18.0% through 2020 and to reach US$ 42.17 billion.

The Indian healthcare industry is expected to reach US$ 280 billion by 2020, driven by increasing demand for specialized and quality healthcare facilities. The Indian pharmaceuticals market is expected to grow to $ 55 billion in 2020 resulting in extensive employment opportunities in the Indian pharmaceutical industry. The Indian healthcare sector is witnessing robust growth, which calls for adequate reforms in current healthcare education to deliver a trained taskforce matching the market needs.

Healthcare education in India seldom addresses topics such as regulatory norms, ethics compliance, entrepreneur skills and does not focus on creating an innovation-oriented educational environment and research facilities all of which has direct impact on healthcare delivery. In India, healthcare delivery and medical education have largely been governmental functions and despite its best efforts, the government has not been able to provide medical education to keep up with the advancements in the sector.

Most of the public sector teaching hospitals are not well equipped to impart training to the residents according to the guidelines of the Medical Council of India (MCI), the apex governing body. With the rapid advancement in medical technology over the last decade, the Indian government is finding it increasingly difficult to keep these teaching hospitals up-to-date. India has some top quality medical institutes that provide quality education and a huge number of professionals are added to the sector every year, yet there is a huge unmet demand for quality and well-trained professionals.

The Foreign Educational Institutions (Regulation of Entry and Operations) Bill has been pending in Parliament since 2010. At this time we cannot say with any confidence if it will be passed. AICTE has in place regulations for Foreign Universities/Institutes which propose to collaborate/enter into twinning arrangements (where a student does a part of the course in India and part overseas) in Technical Education.

Mission Goals

The goals of the United States Healthcare Education Mission to India are:

(1) To help participants gain market exposure and introduce participants to the vibrant Indian market in the three cities of New Delhi, Hyderabad and Ahmedabad;

(2) To provide an opportunity for participants to assess current and future business prospects by establishing valuable contacts with prospective business partners and clients, including companies, hospitals, students and education institutions; and

(3) To provide an opportunity for participants to develop market knowledge and relationships leading to student recruitment and potential partnerships.

Mission Scenario

New Delhi—The first stop for the delegation is the capital city of India, which will provide an opportunity for the delegates to directly interact with officials from the Government of India (GOI) regarding policies, procedures and opportunities in the country's healthcare education sector. New Delhi has many of the finest education institutions of India. There are 15 universities and nearly 85 colleges, 55 management institutes, 7 medical colleges, 10 engineering colleges, a large number of computer institutes, 314 higher secondary schools, hundreds of preparatory schools and a good number of other institutes spread across the city.

New Delhi is widely regarded as an important center of education in India. The local Government authorities are striving to promote higher education in terms of providing the necessary infrastructure facilities, resources, and proper environment to the institutions working in the field of higher education. Several regulatory bodies, including the Medical Council of India, All India Council of Technical Education (AICTE), and Central Drugs Standard Control Organization (CDSCO) are located in New Delhi. One of the foremost medical institutes in India is the All India Institute of Medical Sciences (AIIMS). The Institute has comprehensive facilities for teaching, research and patient-care and conducts teaching programs in medical and paramedical courses both at undergraduate and postgraduate levels and awards its own degrees. Several corporate hospital chains have their headquarters in New Delhi, such as Max group and Medicity Medanta.

Hyderabad—This city is the capital of the state of Andhra Pradesh (AP), and is a booming education and healthcare center in the south of India. It is gaining recognition as a dynamic location for student recruitment by U.S. universities, many of which recruit a large number of students from Hyderabad. Andhra Pradesh has 1,330 arts, science and commerce colleges, 847 engineering colleges and 53 medical colleges. The state of Andhra Pradesh contributes the majority of students to the student population pursuing higher education in the United States.

AP has emerged as a key state for the knowledge-based industry including IT, pharmaceuticals and biotechnology. Over 70 of the 500 top global corporations are present in the state. Hyderabad is the hub of the bulk-drugs industry, accounting for one-third of the national production of bulk drugs. The state produces a majority of the 500 basic drugs produced in the country. The presence of related educational infrastructure has also helped the pharmaceutical and biotech industry. Hyderabad is home to the Birla Institute of Technology and Science (BITS), National Institute of Pharmaceutical Education and Research (NIPER), Indian Institute of Technology (IIT), Tata Institute of Fundamental Research, National Institute of Nutrition (NIN), Centre for Cellular and Molecular Biology (CCMB) and Indian Institute of Chemical Technology (IICT). Leading hospitals like Apollo, Nizam's Institute of Medical Sciences, Krishna Institute of Medical Sciences, MNJ Institute of Oncology and Regional Cancer Centre, L V Prasad Eye Institute, Basavatarakamma Indo American Cancer Hospital & Research Institute are all located in Hyderabad. Companies like Dr. Reddy's Laboratories, Mylan, Albany, Novartis, Aurobindo Pharma, Bharat Biotech are headquartered in Hyderabad.

Ahmedabad—This is the largest city in Gujarat and the 7th largest city in India, with a population of nearly 6 million. This is one of the fastest growing and most business-friendly states in India and has some of the country's most dynamic entrepreneurs. The state's capital, Gandhinagar, is the second planned city in the country and is located just 32 kilometers from Ahmedabad, the commercial capital of Gujarat.

At present, there are approximately 3,500 drug manufacturing facilities in Gujarat. The state houses several established companies, such as Torrent Pharma, Zydus Cadila, Alembic, Sun Pharma Claris, Intas Pharmaceuticals and Dishman Pharmaceuticals, which have operations in the world's major pharmaceutical markets. The first pharmacy college in India was established in Gujarat—L.M. College of Pharmacy—in 1947 and provides diploma, bachelor and master courses in pharmacy. There are other education institutions and research centers of renown active in Gujarat, namely Nirma Institute of Pharmacy, Zydus Research Center, B.V. Patel PERD center, National Research Center for Medicines & Aromatic Plants, Sun Pharma Research Center, MS University of Vadodara etc. Over the last few years, Gujarat's contribution in the growth of India's pharmaceutical/healthcare industry has been significant. Gujarat has a 42% share of India's pharmaceutical/healthcare business.

Mission Scenario

Participation in the mission will include the following:

• Pre-travel briefings/webinars;

• Airport transfers in New Delhi, Hyderabad, and Ahmedabad;

• Embassy/consulate and industry briefings;

• Pre-scheduled meetings with representatives of medical colleges, dental colleges, pharmacy colleges, nursing colleges, hospitals, pharmaceutical companies in all three cities; and

• Site visits and interaction with students pursuing various streams of healthcare education.

Proposed Mission Schedule—January 27-February 1, 2014

Sunday—January 26, 2014

—Arrive in New Delhi (evening arrival)

—Check into hotel

New Delhi—January 27-28, 2014

Monday, January 27, 2014

—Embassy Briefing

—Government of India (GOI) meeting(s)

—Working Lunch hosted by University or by a trade association

—Site visit

—Networking event with New Delhi-based top Indian Pharmaceutical Company

Tuesday, January 28, 2014

—One-on-one matchmaking meetings

—Late afternoon departure for Hyderabad

—Arrive in Hyderabad and check into hotel

Hyderabad—January 28-30, 2014

Wednesday, January 29, 2014

—Consular briefing

—One-on-one matchmaking meetings

—Luncheon hosted by TBD

—Site visit

Thursday, January 30, 2014

—Half day site visit TBD

—Late afternoon depart for Ahmedabad

—Arrive in Ahmedabad and check into hotel.

Ahmedabad—January 31-February 1, 2014

Friday, January 31, 2014

—Briefing by industry experts

—Site visits (Pharma Companies/Hospital/College)

—Networking lunch with industry representatives

—One-on-one matchmaking meetings (Half day)

Saturday, February 1, 2014

—Half day site visit—to be finalized

—Late afternoon departure from Ahmedabad. Fly via New Delhi to USA

Participation Requirements

All parties interested in participating in the Mission to India must complete and submit an application for consideration by the Department of Commerce. All applicants will be evaluated on their ability to meet certain conditions and best satisfy the selection criteria as outlined below. The mission will be open on a first-come, first-served basis to 15 regionally accredited U.S. Universities/colleges offering graduate programs and 4-year undergraduate programs.

Conditions for Participation

An applicant must submit a timely, completed and signed mission application and supplemental application materials, including adequate information on the applicant's accreditation, courses offerings, primary market objectives, and goals for participation. If the U.S. Department of Commerce receives an incomplete application, the Department may reject the application, request additional information, or take the lack of information into account when evaluating the applications.

All applicants seeking to participate must be appropriately accredited by one of the six regional institutional accreditors in the United States. Each participant is subject to and must meet the US&FCS service eligibility requirements.

Selection Criteria for Participation

—Consistency of the applicant's goals and objectives with the stated scope of the mission.

—Applicant's potential for doing business in India, including likelihood of service exports (education)/knowledge transfer resulting from the mission

Referrals from political organizations and any documents containing references to partisan political activities (including political contributions) will be removed from an applicant's submission and not considered during the selection process.

Fees and Expenses

After a representative of a regionally accredited graduate program or 4-year undergraduate program has been selected to participate on the mission, a payment to the Department of Commerce in the form of a participation fee is required. The participation fee is $3150 for one principal representative from each regionally accredited education institution. The fee for each additional representative is $750. Expenses for lodging, some meals, incidentals, and all travel (except for transportation to and from airports in-country, previously noted) will be the responsibility of each mission participant.

Timeframe for Recruitment and Applications

Mission recruitment will be conducted in an open and public manner, including publication in the Federal Register, posting on the Commerce Department trade mission calendar (http://www.trade.gov/trade-missions) and other Internet Web sites, press releases to general and trade media, direct mail, notices by industry trade associations and other multiplier groups, and publicity at industry meetings, symposia, conferences, and trade shows. Recruitment for the mission will begin immediately and conclude no later than November 1, 2013. The mission will be open on a first-come, first-served basis. Applications received after November 1, 2013 will be considered only if space and scheduling constraints permit.

CONTACT INFORMATION:

U.S. Commercial Service in India

Sathya Prabha, Commercial Assistant, Hyderabad, Tel: (91-40) 2330 4025, Email: Sathya.Prabha@trade.gov.

U.S. Export Assistance Center

Patrick Kenny, International Trade Specialist, Central-Southern NJ, Tel: 1 609 896 2731, Email: Patrick.Kenny@trade.gov.

Elnora Moye,
Trade Promotion Assistant.

[FR Doc. 2013-16816 Filed 7-15-13; 8:45 am]

BILLING CODE 3510-FP-P